DEPARTMENT OF COMMERCE

National Oceanic and Atmospheric Administration

RIN 0648-XA930

North Pacific Fishery Management Council; Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings, January 30—February 7, 2012, at the Renaissance Hotel in Seattle, WA.

DATES: The Council will begin its plenary session at 8 a.m. on Wednesday, February 1 continuing through Tuesday, February 7. Council's Advisory Panel (AP) will begin at 8 a.m., Monday, January 30 and continue through Friday, February 6. The Scientific Statistical Committee (SSC) will begin at 8 a.m. on Monday, January 30 and continue through Wednesday, February 1. The Ecosystem Committee will meet January 31, 9 a.m. The Enforcement Committee will meet January 31 at 1 p.m. All meetings are open to the public, except executive sessions.

ADDRESSES: The meetings will be held at the Renaissance Hotel, 515 Madison Street, Seattle, WA.

Council address: North Pacific Fishery Management Council, 605 W. 4th Avenue, Suite 306, Anchorage, AK 99501-2252.

FOR FURTHER INFORMATION CONTACT: David Witherell, Council staff; telephone: (907) 271-2809.

SUPPLEMENTARY INFORMATION:

Council Plenary Session: The agenda for the Council's plenary session will include the following issues. The Council may take appropriate action on any of the issues identified. Reports:

1. Executive Director's Report (including update on Halibut Catch Share Plan, review and approve Standard Operations and Procedures (SOPPs)).

NMFS Management Report (including update on Essential Fish Habitat (EFH) process)

Alaska Department of Fish & Game Report

NOAA Enforcement Report

United States Coast Guard Report

United States Fish & Wildlife Service Report

International Pacific Halibut Commission (IPHC) Report

Protected Species Report (Steller Sea Lion (SSL) Center of Independent Experts (CIE) Terms of Reference).

2. Final action to allow formation of a Community Quota Entity (CQE) in Area 4B.

3. Halibut Prohibited Species Catch (PSC): Initial review of Fishery Management Plan (FMP) amendment to set Gulf of Alaska (GOA) Halibut PSC.

4. Bering Sea Aleutian Island (BSAI) Crab Management: Update on Pribilof Blue King Crab Rebuilding Plan, action as necessary; BSAI Crab Model Workshop Report. (SSC only); Preliminary Review on BSAI Tanner Crab Rebuilding Plan; Report on BSAI Crab Right of First Refusal (ROFR) Workgroup, action as necessary (T); Final action on BSAI Crab Electronic Data Reporting (EDR) Revisions.

5. Habitat Issues; Initial review of GOA Trawl Sweep modifications; Initial review Habitat Area Particular Concern (HAPC)—Skate egg deposition sites; Updated discussion paper on Bristol Bay Red King Crab spawning area/fishery effects(T); Report on 2012-2015 Deep Sea Coral Research

6. Groundfish Issues/Miscellaneous; Discussion paper on GOA Chinook Bycatch in all trawl fisheries; Discussion paper on GOA Pollock D-season; Discussion paper on American Fisheries Act (AFA) Vessel Replacement GOA Sideboards; Discussion paper on BSAI Flatfish specification flexibility.

7. Staff Tasking: Review Committees and tasking; discuss schedule for Groundfish Programmatic Supplemental Environmental Impact Statement (PSEIS); Review Individual Fishing Quotas (IFQs) proposals and provide direction.

8. Other Business

The SSC agenda will include the following issues:

1. Crab Management

2. Habitat Issues

3. Halibut PSC

4. SSC workshop—Stock Recruitment

The Advisory Panel will address most of the same agenda issues as the Council, except C-1, and B reports. The Agenda is subject to change, and the latest version will be posted at http://www.alaskafisheries.noaa.gov/npfmc/

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: January 10, 2012.
Tracey L. Thompson,
Acting Director, Office of Sustainable Fisheries, National Marine Fisheries Service.

[FR Doc. 2012-534 Filed 1-12-12; 8:45 am]

BILLING CODE 3510-22-P